DEPARTMENT OF COMMERCE

[Docket No. 150911845-5845-01]

RIN 0605-XC027

Privacy Act of 1974, Amended System of Records

AGENCY: National Oceanic and Atmospheric Administration, U.S. Department of Commerce.

ACTION: Notice of Proposed Amendment to Privacy Act System of Records: COMMERCE/NOAA-16, Crab Economic Data Report (EDR) for BSAI off the Coast of Alaska.

SUMMARY: This notice announces the Department of Commerce's (Department) intention to amend the system of records entitled “COMMERCE/NOAA-16, Crab Economic Data Report (EDR) for BSAI off the Coast of Alaska,” by updating the routine uses to include: (1) Disclosure for breach notifications, (2) disclosure to Federal, state, or local agencies for licensing and human resources decisions; (3) disclosure pursuant to Federal, state, local, or international requests, in connection to decisions to grant a benefit to an individual; (4) disclosure to the medical advisor if, in the judgment of the Department, disclosure to the individual could have an adverse effect upon the individual; (5) disclosure pursuant to an Office of Management and Budget (OMB) request in connection to private relief legislation as set forth in OMB Circular No. A-19; (6) disclosure pursuant to an OMB request, for statistical purposes; and (7) disclosure to the Administrator of the General Services Administration, or a designee thereof, for the purpose of inspection of agency records management practices; and by renaming the system from “Crab Economic Data Report (EDR) for BSAI off the Coast of Alaska” to “Economic Data Reports for Alaska Federally Regulated Fisheries off the coast of Alaska.”

The National Oceanic and Atmospheric Administration's (NOAA) National Marine Fisheries Service (NMFS), Alaska Region, is also revising its system of records for the mandatory collections of economic data reports (EDRs) in the Alaska Region consisting of the Crab Rationalization (CR) Program, to include the Amendment 80 EDR and the Chinook Salmon EDR, for use with a variety of fisheries management programs. We invite public comment on the amended system announced in this publication.

DATES: To be considered, written comments must be submitted on or before November 9, 2015. Unless comments are received, the revised system of records will become effective as proposed on the date of publication of a subsequent notice in the Federal Register.

ADDRESSES: Comments may be mailed to Sarah Brabson, NOAA Office of the Chief Information Officer, Room 9856, 1315 East-West Highway, Silver Spring, MD 20910.

FOR FURTHER INFORMATION CONTACT: Patsy A. Bearden, NMFS Alaska Region, Suite 401, 709 West Ninth Street, P.O. Box 21668, Juneau, Alaska, 99802.

SUPPLEMENTARY INFORMATION: Information for this system of records would be requested from individuals under the authority of the Magnuson-Stevens Fishery Conservation and Management Act (Magnuson-Stevens Act) and the American Fisheries Act. The collection of information is necessary to identify participants and their roles in these fisheries and to evaluate the programs in which they participate, which includes the costs of fishing and processing, revenues for harvesters and processors, and employment information. NMFS will collect information from individuals in order to evaluate the economic effects of fisheries programs, specifically the effects on the harvesting and processing sectors, and to determine the economic efficiency and distributional effects of the programs. Information obtained through the EDRs will be accessible by an independent Data Collection Agent (DCA) under cooperative agreement with NMFS, Alaska Region, to distribute forms, receive forms, review, and verify information in the economic surveys (see System Location section). Each vessel owner or lessee and each plant owner or lessee that participated in the specified fisheries off the coast of Alaska since 1996 will be required to submit an EDR to the DCA by mail, FAX, or electronic file. In addition, NMFS would provide information to the Department of Justice (DOJ) and Federal Trade Commission (FTC) to assist in anti-trust analysis of the fisheries programs. This mandatory collection of the Tax Identification Number (Employer Identification Number or Social Security Number) is authorized by 31 U.S.C. 7701.

The resulting system of records, as amended, appears below.

COMMERCE/NOAA-16

SYSTEM NAME:

COMMERCE-16, Economic Data Reports for Alaska Federally Regulated Fisheries off the coast of Alaska.

SECURITY CLASSIFICATION:

None.

SYSTEM LOCATION:

a. Pacific States Marine Fisheries Commission, 205 Southeast Spokane, Suite 100, Portland, OR 97202.

b. NMFS Alaska Region, 709 West Ninth Street, Juneau, AK 99801.

CATEGEGORIES OF INDIVIDUALS COVERED BY THE SYSTEM:

Owners or lessees of catcher vessels, catcher/processors, shoreside processors, and stationary floating processors.

CATEGORIES OF RECORDS IN THE SYSTEM:

1. The Tax Identification Number (TIN): Employer Identification Number (EIN) or Social Security Number (SSN) is required for all permits, under the authority 31 U.S.C. 7701. For purposes of administering the various NMFS fisheries permit and registration programs, a person shall be considered to be doing business with a Federal agency including but not limited to if the person is an applicant for, or recipient of, a Federal license, permit, right-of-way, grant, or benefit payment administered by the agency or insurance administered by the agency pursuant to subsection (c)(2)(B) of Section 7701.

2. This system includes records for historical, annual, and current EDRs including financial information, harvest activity and cost, product and cost information, labor cost information for crew, and sales information. The crab EDRs request data on cost, revenue, ownership, and employment and will be used to study the economic impacts of the CR Program on affected harvesters, processors, and communities.

3. Each report includes the following: The name, title, telephone number, FAX number, and email address of the person completing the EDR; name and address of the owner or lessee of the plant or vessel; Federal fisheries permit number; Federal processor permit number; Alaska vessel registration number; crew license number and city of residence, assigned internal individual identifier.

AUTHORITY FOR MAINTENANCE OF THE SYSTEM:

The Magnuson-Stevens Fishery Conservation and Management Act, 16 U.S.C. 1801 et seq. 16 U.S.C. 1862, and 16 U.S.C. 1853; the American Fisheries Act, Title II, Public Law 105-277.

PURPOSE(S):

This information will allow NMFS to evaluate the economic effects of the three EDR Programs, specifically the harvesting and processing sectors; the determination of the economic efficiency and distributional effects of the Program; and distribution of information to the DOJ and FTC to assist in anti-trust analysis of the programs.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside the Department. The records or information contained therein may specifically be disclosed as a routine use, as stated below. The Department will, when so authorized, make the determination as to the relevancy of a record prior to its decision to disclose a document.

1. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records, may be referred to the appropriate agency, whether Federal, State, local, or foreign, charged with the responsibility of investigating or prosecuting such violation or charged with enforcing or implementing the statute or contract, rule, regulation, or order issued pursuant thereto, or protecting the interest of the Department.

2. A record from this system of records may be disclosed in the course of presenting evidence to a court, magistrate, hearing officer or administrative tribunal, including disclosures to opposing counsel in the course of settlement negotiations, administrative appeals and hearings.

3. A record in this system of records may be disclosed to a Member of Congress submitting a request involving an individual when the individual has requested assistance from the Member with respect to the subject matter of the record.

4. A record in this system will be disclosed to the Department of Treasury for the purpose of reporting and recouping delinquent debts owed the United States pursuant to the Debt Collection Improvement Act of 1996.

5. A record in this system of records may be disclosed to a contractor of the Department having need for the information in the performance of the contract but not operating a system of records within the meaning of 5 U.S.C. 552a(m).

6. A record in this system of records may be disclosed to the applicable Fishery Management Council (Council) staff and contractors tasked with the development of analyses to support Council decisions about Fishery Management Programs.

7. A record in this system of records may be disclosed to the Department of Justice and the Federal Trade Commission to assist in antitrust analysis of the fisheries programs in the supplementary information and later on.

8. A record in this system of records may be disclosed to appropriate agencies, entities and Persons when: (1) It is suspected or determined that the security or confidentiality of information in the system of records has been compromised; (2) the Department has determined that as a result of the suspected or confirmed compromise there is a risk of harm to economic or property interests, identity theft or fraud, or harm to the security or integrity of this system or systems or programs (whether maintained by the Department or another agency or entity) that rely upon the compromised information; and (3) the disclosure made to such agencies, entities, and persons is reasonably necessary to assist in connection with the Department's efforts to respond to the suspected or confirmed compromise and to prevent, minimize, or remedy such harm.

9. A record from this system of records may be disclosed, as a routine use, to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

10. A record from this system of records may be disclosed, as a routine use, to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

11. A record in this system of records which contains medical information may be disclosed, as a routine use, to the medical advisor of any individual submitting a request for access to the record under the Act and 15 CFR part 4b if, in the sole judgment of the Department, disclosure could have an adverse effect upon the individual, under the provision of 5 U.S.C. 552a(f)(3) and implementing regulations at 15 CFR part 4b.6.

12. A record in this system of records may be disclosed, as a routine use, to the Office of Management and Budget in connection with the review of private relief legislation as set forth in OMB Circular No. A-19 at any stage of the legislative coordination and clearance process as set forth in that Circular.

13. A record in this system may be transferred, as a routine use, to the Office of Personnel Management: For personnel research purposes; as a data source for management information; for the production of summary descriptive statistics and analytical studies in support of the function for which the records are collected and maintained; or for related manpower studies.

14. A record from this system of records may be disclosed, as a routine use, to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

DISCLOSURE TO CONSUMER REPORTING AGENCIES:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

POLICIES AND PRACTICES FOR STORING, RETRIEVING, ACCESSING, RETAINING, AND DISPOSING OF RECORDS IN THE SYSTEM:

STORAGE:

Computerized data base; CDs; back-up files stored on tape; paper records in file folders in locked metal cabinets and/or locked rooms.

RETRIEVABILITY:

Records are organized and retrieved by NMFS internal identification number, name of owner or lessee, vessel permit number, plant permit number, crew license number, vessel name, or plant name. Records can be accessed by any file element or any combination thereof.

SAFEGUARDS:

1. The system of records is stored in a building with doors that are locked during and after business hours. Visitors to the facility must register with security guards and must be accompanied by Federal personnel at all times. Only those that have the need to know, to carry out the official duties of their job, have access to the information. Paper records are maintained in secured file cabinets in areas that are accessible only to authorized personnel of the DCA. Electronic records containing Privacy Act information are protected by a user identification/password. The user identification/password is issued to individuals by authorized personnel.

2. NMFS Alaska Region contractors, to whom access to this information is granted in accordance with this system of records routine uses provision, are instructed on the confidential nature of this information.

3. All electronic information disseminated by NOAA adheres to the standards set out in Appendix III, Security of Automated Information Resources, OMB Circular A-130; the Computer Security Act (15 U.S.C. 278g-3 and 278g-4); and the Government Information Security Reform Act, Public Law 106-398; and follows NIST SP 800-18, Guide for Developing Security Plans for Federal Information Systems; NIST SP 800-26, Security Self-Assessment Guide for Information Technology Systems; and NIST SP 800-53, Recommended Security Controls for Federal Information Systems.

4. The EDR system is designed as follows: (1) Participants are required to submit an annual EDR to the NOAA-approved DCA; (2) The DCA provides the EDR information without individual identifiers to NMFS Alaska Region, State of Alaska Department of Fish and Game, and the North Pacific Fishery Management Council; (3) Upon request, the DCA will provide the EDR information with individual identifiers to NOAA Office for Enforcement and the U.S. Coast Guard; and (4) Upon request, the DCA will provide the EDR information with individual identifiers to the DOJ and FTC to assist in anti-trust analysis of the Program.

RETENTION AND DISPOSAL:

All records are retained and disposed of in accordance with National Archives and Records Administration regulations (36 CFR Chapter B—Records Management); Departmental directives and comprehensive records schedules; NOAA Administrative Order 205-01; and the NMFS Records Disposition Schedule, Chapter 1500.

SYSTEMS MANAGER(S) AND ADDRESSES:

For records at location a.: Regional Administrator, NMFS Alaska Region, 709 West Ninth Street, Juneau, AK 99801.

For records at location b.: Pacific States Marine Fisheries Commission, 205 Southeast Spokane, Suite 100, Portland, OR 97202.

NOTIFICATION PROCEDURE:

Individuals seeking to determine whether information about themselves is contained in this system should address written inquires to the national or regional Privacy Act Officer:

1. Privacy Act Officer, NOAA, 1315 East-West Highway, Room 9719, Silver Spring, MD 20910.

2. Privacy Act Officer, NMFS Alaska Region, P.O. Box 21668, Juneau, Alaska 99802, or delivered to the Federal Building, 709 West 9th Street Juneau, Alaska, 99801. Written requests must be signed by the requesting individual. Requestor must make the request in writing and provide his/her name, address, and date of the request and record sought. All such requests must comply with the inquiry provisions of the Department's Privacy Act rules which appear at 15 CFR part 4, Appendix A.

RECORDS ACCESS PROCEDURES:

Requests for access to records maintained in this system of records should be addressed to the same address given in the Notification section above.

CONTESTING RECORD PROCEDURES:

The Department's rules for access, for contesting contents, and appealing initial determinations by the individual concerned are provided for in 15 CFR part 4, Appendix A.

RECORD SOURCE CATEGORIES:

Information contained in this system will be collected from individuals participating in any of the three Alaska EDR Programs.

EXEMPTIONS CLAIMED FOR THE SYSTEM:

None.

Dated: October 2, 2015.
Michael J. Toland,
Department of Commerce, Acting Freedom of Information/Privacy Act Officer.

[FR Doc. 2015-25747 Filed 10-8-15; 8:45 am]

BILLING CODE 3510-22-P